ENVIRONMENTAL PROTECTION AGENCY

[FRL-8709-9]

Notice of Proposed Administrative Settlement Pursuant to the Comprehensive Environmental Response, Compensation, and Liability Act, as Amended; Bodie State Historic Park Site

AGENCY: Environmental Protection Agency.

ACTION: Notice, request for public comments.

SUMMARY: In accordance with Section 122(i) of the Comprehensive Environmental Response, Compensation, and Liability Act (“CERCLA”), as amended, 42 U.S.C. 9622(i), notice is hereby given of a proposed Administrative Agreement for Recovery of Past Response Costs (“Agreement,” Region 9 Docket No. 9-2008-16) pursuant to Section 122(h) of CERCLA concerning the Bodie State Historic Park Site (the “Site”), located in Bodie, Mono County, California. The settling party is the California Department of Parks and Recreation (“DPR”). Through the proposed Agreement, DPR will fully reimburse the United States up to $1,400,000 for response costs incurred at the Site. The Agreement provides DPR with a covenant not to sue for these response costs, and contribution protection. For thirty (30) days following the date of publication of this Notice, the Agency will receive written comments relating to the proposed Agreement. The Agency's response to any comments received will be available for public inspection at EPA's Region IX offices, located at 75 Hawthorne Street, San Francisco, California 94105.

DATES: Comments must be submitted on or before October 2, 2008.

ADDRESSES: The proposed Agreement may be obtained from Andrew Helmlinger, in the Office of Regional Counsel, telephone (415) 972-3904. Comments regarding the proposed Agreement should be addressed to Sara Goldsmith at the U.S. Environmental Protection Agency (ORC-3), 75 Hawthorne Street, San Francisco, California 94105, and should reference the Bodie State Historic Park Site, and Region IX Docket No. 9-2008-0016.

FOR FURTHER INFORMATION CONTACT: Andrew Helmlinger, Office of Regional Counsel, (415) 972-3904, U.S. Environmental Protection Agency, Region 9, 75 Hawthorne Street, San Francisco, CA 94105.

Dated: August 20, 2008.
Nancy Lindsay,
Acting Director, Superfund Division.

[FR Doc. E8-20234 Filed 8-29-08; 8:45 am]

BILLING CODE 6560-50-P